DEPARTMENT OF LABOR

Employment and Training Administration

Public Meeting of the Advisory Committee on Apprenticeship (ACA)

AGENCY: Employment and Training Administration, Labor.

ACTION: Notice of an open ACA meeting.

SUMMARY: Pursuant to section 10 of the Federal Advisory Committee Act (Pub. L. 92-463; 5 U.S.C. APP. 1), notice is hereby given of an open meeting of the Advisory Committee on Apprenticeship (ACA).

TIMES AND DATES: The meeting will begin at approximately 1 p.m. on Monday, November 17, and continue until approximately 5 p.m. The meeting will reconvene on Tuesday, November 18, at approximately 8:30 a.m. and continue until approximately 5 p.m. The meeting will begin at approximately 8:30 a.m. on Wednesday, November 19 and adjourn at approximately 12 p.m.

Place: Loews L'Enfant Plaza, 480 L'Enfant Plaza, SW., Washington, DC, (202) 484-1000.

The agenda is subject to change due to time constraints and priority items which may come before the Committee between the time of this publication and the scheduled date of the ACA meeting.

FOR FURTHER INFORMATION CONTACT: Mr. John V. Ladd, Administrator, Office of Apprenticeship, Employment and Training Administration (ETA), U.S. Department of Labor, Room N-5311, 200 Constitution Avenue, NW., Washington, DC 20210. Telephone: (202) 693-2796, (this is not a toll-free number).

Matters To Be Considered

The agenda will focus on the following topics:

• Regulatory Updates.

• Office of Apprenticeship Updates.

• Integration and Partnerships with Registered Apprenticeship.

• Shared Vision for the Future of the Registered Apprenticeship System.

Status

Members of the public are invited to attend the proceedings. Individuals with disabilities should contact Ms. Kenya Huckaby at (202) 693-3795 no later than Monday, November 10, 2008, if special accommodations are needed.

Any member of the public who wishes to file written data or comments pertaining to the agenda may do so by sending the data or comments to Mr. John V. Ladd, Administrator, Office of Apprenticeship, U.S. Department of Labor, Room N-5311, 200 Constitution Avenue, NW., Washington, DC 20210. Such submissions should be sent by Monday, November 10, 2008, to be included in the record for the meeting.

Any member of the public who wishes to speak at the meeting should indicate the nature of the intended presentation and the amount of time needed by furnishing a written statement to the Designated Federal Official, Mr. John V. Ladd, by Monday, November 10, 2008. The Chairperson will announce at the beginning of the meeting the extent to which time will permit the granting of such requests.

Signed at Washington, DC, this 30th day of October 2008.
Brent R. Orrell,
Deputy Assistant Secretary for Employment and Training Administration.

[FR Doc. E8-26363 Filed 11-4-08; 8:45 am]

BILLING CODE 4510-FR-P